DEPARTMENT OF THE INTERIOR

Bureau of Land Management

[LLIDC0100000.L12200000.IA0000.241A.0; 4500012836]

Notice of Final Supplementary Rules for Public Lands in Idaho: Blue Creek Bay Recreation Management Area

AGENCY: Bureau of Land Management, Interior.

ACTION: Final supplementary rules.

SUMMARY: The Bureau of Land Management (BLM) Coeur d'Alene Field Office (CdAFO) is finalizing supplementary rules to regulate conduct on public lands within the Blue Creek Bay Recreation Management Area (BCBRMA). These supplementary rules are needed to implement decisions set out in the Blue Creek Bay Recreation Project Plan Environmental Assessment (EA) (2009) and in the Coeur d'Alene Resource Management Plan (RMP), to protect public lands, resources, and public health and provide for public safety.

DATES: These rules are effective January 7, 2011.

ADDRESSES: You may direct inquiries to the Bureau of Land Management, Coeur d'Alene Field Office, 3815 Schreiber Way, Coeur d'Alene, ID 83815; or e-mail Brian_White@blm.gov.

FOR FURTHER INFORMATION CONTACT: Brian White, Bureau of Land Management Outdoor Recreation Planner (208) 769-5031 or e-mail: Brian_White@blm.gov.

SUPPLEMENTARY INFORMATION:

I. Background

II. Discussion of Public Comments

III. Discussion of Supplementary Rule

IV. Procedural Matters

I. Background

Through a series of transactions over a 10-year period, the BLM acquired 736 acres of public land surrounding Blue Creek Bay on Lake Coeur d'Alene. The acquisition generated considerable public interest and required a substantial investment of public funds. The parcels were acquired with the intent of providing public access to the lake while retaining many of the natural elements in close proximity to a rapidly growing urban/suburban area. The key issues of management concern are public health and safety and long-term management of public recreational access to the property.

In developing a recreation plan for this area, the BLM conducted extensive public outreach in 2007 and 2008 and analyzed alternative levels of development and different management strategies for the area. The plan considered the physical location and characteristics of the area, natural resource values, recreational opportunities, and public input. The Blue Creek Bay Recreation Project Plan (BCBRPP), approved in January 2009, identified a modest level of development designed for day use only of new waterfront facilities that will include a parking area, docks, vault toilet and picnic sites, development of an upland trailhead and non-motorized trails, and the installation of an accessible nature trail with interpretive displays for environmental education. The BCBRPP identified six supplementary rules necessary for the safety of the adjacent landowners, public land users, and other visitors to the area.

II. Discussion of Public Comments

The BLM CdAFO proposed these supplementary rules in the Federal Register on July 13, 2009 (74 FR 33469). Public comments were accepted for a 30-day period ending on August 12, 2009. The BLM received no public comments during the comment period.

III. Discussion of Supplementary Rules

The final supplementary rules apply to the public lands within the BCBRMA. The BCBRMA includes specific management actions that restrict certain activities and define allowable uses which were identified and analyzed in the BCBRPP EA. The final supplementary rules implement these management actions within the BCBRMA. These final supplementary rules are necessary to protect natural resources on public land and provide for the public's health and safety. Please see the preamble to the proposed rule (74 FR 33469-33470) for discussion of the supplementary rules.

The final supplementary rules do not incorporate any substantive changes from the proposed supplementary rules. Internal review led to some technical changes. The legal land description added the term “above Yellowstone Road” in order to clarify that the specified lots were above Yellowstone Road. However, this addition does not alter the reading of the land description. The proposed supplementary rules included an “Enforcement” section, which was changed to “Penalties” to reflect current BLM nomenclature. The final rules do not reference 43 CFR 2932.57(b) in the Penalties section because these regulations apply to Special Recreation Permits, which are not relevant for the supplementary rules.

IV. Procedural Matters

Executive Order 12866, Regulatory Planning and Review

These supplementary rules are not significant and are not subject to review by the Office of Management and Budget under Executive Order (EO) 12866. These supplementary rules will not have an effect of $100 million or more on the economy, nor will they adversely affect in a material way the economy, productivity, competition, jobs, the environment, public health or safety, or State, local, or Tribal governments or communities. These supplementary rules will not create a serious inconsistency or otherwise interfere with an action taken or planned by another agency. These supplementary rules do not alter the budgetary effects or entitlements, grants, user fees, or loan programs or the rights or obligations of their recipients nor do they raise novel legal or policy issues. The supplementary rules will not affect legal commercial activity, but merely contain rules of conduct for public use of a limited area of public lands.

Regulatory Flexibility Act

Congress enacted the Regulatory Flexibility Act of 1980 (RFA), as amended (5 U.S.C. 601-612) to ensure that government regulations do not unnecessarily or disproportionately burden small entities. The RFA requires a regulatory flexibility analysis if a rule would have a significant economic impact, either detrimental or beneficial, on a substantial number of small entities. These supplementary rules merely establish rules of conduct for public use of a limited area of public lands. Therefore, the BLM has determined that under the RFA these final supplementary rules do not have a significant economic impact on a substantial number of small entities.

Small Business Regulatory Enforcement Fairness Act

These final supplementary rules are not considered a “major rule” as defined under 5 U.S.C. 804(2). The supplementary rules merely establish rules of conduct for public use of a limited area of public lands and do not affect commercial or business activities of any kind.

Unfunded Mandates Reform Act

These final supplementary rules do not impose an unfunded mandate on State, local, or Tribal governments in the aggregate, or the private sector of more than $100 million per year; nor do they have a significant or unique effect on State, local or Tribal governments or the private sector. The final supplementary rules merely establish rules of conduct for public use of a limited area of public lands and have no effect on State, local or Tribal governments and do not impose any requirements on any of these entities. Therefore, the BLM is not required to prepare a statement containing the information required by the Unfunded Mandates Reform Act (2 U.S.C. 1531 et seq.).

Executive Order 12630, Governmental Actions and Interference With Constitutionally Protected Property Rights (Takings)

These final supplementary rules do not represent a government action capable of interfering with constitutionally protected property rights. The final supplementary rules do not address property rights in any form, and do not cause the impairment of one's property rights. Therefore, the BLM has determined that these rules do not cause a “taking” of private property or require preparation of a takings assessment under this Executive Order.

Executive Order 13132, Federalism

These final supplementary rules will not have a substantial direct effect on the States, on the relationship between the National Government and the States, or on the distribution of power and responsibilities among the various levels of government. These final supplementary rules do not conflict with any Idaho State law or regulation. Therefore, in accordance with Executive Order 13132, the BLM has determined that these final supplementary rules do not have sufficient Federalism implications to warrant preparation of a Federalism Assessment.

Executive Order 12988, Civil Justice Reform

Under Executive Order 12988, the Idaho State Office of the BLM has determined that these final supplementary rules do not unduly burden the judicial system and meet the requirements of sections 3(a) and 3(b)(2) of the Order.

Executive Order 13175, Consultation and Coordination With Indian Tribal Governments

In accordance with Executive Order 13175, the BLM found that these supplementary rules would not include policies that have Tribal implications. Since the rules do not change BLM policy and do not involve Tribal lands, resources, or religious rights, the BLM has determined that additional Tribal consultation is not necessary.

Paperwork Reduction Act

These final supplementary rules do not contain any information collection that the Office of Management and Budget must approve under the Paperwork Reduction Act, 44 U.S.C. 3501 et seq. Any information collection that may result from Federal criminal investigations or prosecutions conducted under these proposed supplementary rules is exempt from the provisions of the Paperwork Reduction Act of 1995, as provided at 44 U.S.C. 3518(c)(1).

National Environmental Policy Act (NEPA)

The BLM prepared an EA (ID-410-2008-EA-60) and an associated Finding of No Significant Impact (FONSI) for the BCBRPP, for which a Decision Record was issued January 9, 2009. The proposed rules and their environmental effects were analyzed in the EA, and the Decision Record adopted the supplementary rules. The supplementary rules are consistent with and necessary to carry out the direction of the RMP and the BCBRPP. They establish rules of conduct for public use within the BCBRMA to protect public health and safety and improve the protection of the resources. The BLM has placed the EA, FONSI and Decision Record on file in the BLM Administrative Record at the address specified in the ADDRESSES section.

Executive Order 13211, Actions Concerning Regulations That Significantly Affect Energy Supply, Distribution, or Use

These final supplementary rules do not comprise a significant energy action. The supplementary rules do not have an adverse effect on energy supplies, production, or consumption. They have no connection with energy policy.

Author

The principal author of this supplementary rule is Brian White, Outdoor Recreation Planner, Coeur d'Alene Field Office, Bureau of Land Management.

For the reasons stated in the preamble, and under the authority for supplementary rules found at 43 U.S.C. 1740 and 43 CFR 8365.1-6, the Idaho State Director, Bureau of Land Management, issues supplementary rules for public lands managed by the BLM in Idaho, to read as follows:

Supplementary Rules for Blue Creek Bay

Recreation Management Area

These final supplementary rules apply, except as specifically exempted, to the following described public land comprising the entire 736-acre Blue Creek Bay Recreation Management Area, all of which are contiguous lands in Boise Meridian, Kootenai County, Idaho:

T. 50 N., R. 2 W., Section 31: lots 5, 6, 7, 8, and E½ NE¼ SW¼. T. 50 N., R. 3 W., Sec. 26: portion of SW¼ south and west of Sunnyside Road and Sec. 35: portions of lots 1, 2, 7 above Sunnyside Road; lots 4, 5, 6, and N½ NW¼, W½ NE¼.

T. 49 N., R. 2 W., Sec. 6: lot 4. T. 49 N., R. 3 W., Sec. 1: portions of lots 1, 2, 5, 6 above Yellowstone Road.

Containing 736 acres more or less.

1. You must not occupy or use the Blue Creek Bay public lands from one hour after sundown to one hour before sunrise.

2. You must not moor any boat overnight on any BLM-managed structure or shoreline.

3. You must not start or maintain any open campfires, except when completely contained within permanently installed steel fire grates or cooking grills.

4. You must not discharge a firearm (powered by compressed gas or gunpowder) for hunting, target practice or other purposes, except that:

A. Waterfowl hunters may hunt waterfowl below the high water mark of Lake Coeur d'Alene within Blue Creek Bay.

5. You must not use motor vehicles off county roads.

6. You must not cut or collect firewood.

Exceptions

These supplementary rules do not apply to emergency, law enforcement, and Federal or other government entities while conducting official or emergency duties. Motor vehicle restrictions likewise do not apply to emergency, law enforcement, and Federal or other government motor vehicles while conducting official or emergency duties. Exemptions to these supplementary rules may be granted on a case-by-case basis as deemed appropriate by the Authorized Officer. The prohibition of discharging a firearm in rule 4 has no effect on hunting by licensed hunters in legitimate pursuit of waterfowl on lands managed by Idaho Department of Lands during the proper season with appropriate firearms.

Penalties: Any person who violates any of these supplementary rules may be tried before a United States Magistrate and fined up to $1,000, imprisoned for up to 12 months, or both, in accordance with 43 U.S.C. 1733(a) and 43 CFR 8360.0-7. Such violations may also be subject to the enhanced fines provided for by 18 U.S.C. 3571.

In accordance with 43 CFR 8365.1-7, State or local officials may also impose penalties for violations of Idaho law.

Peter J. Ditton,
Acting Idaho State Director.

[FR Doc. 2010-30717 Filed 12-7-10; 8:45 am]

BILLING CODE 4310-GG-P